DEPARTMENT OF HEALTH AND HUMAN SERVICES

Centers for Disease Control and Prevention

[60Day-22-22DW; Docket No. CDC-2022-0042]

Proposed Data Collection Submitted for Public Comment and Recommendations

AGENCY: Centers for Disease Control and Prevention (CDC), Department of Health and Human Services (HHS).

ACTION: Notice with comment period.

SUMMARY: The Centers for Disease Control and Prevention (CDC), located within the Department of Health and Human Services (HHS), as part of its continuing effort to reduce public burden and maximize the utility of government information, invites the general public and other federal agencies the opportunity to comment on a proposed and/or continuing information collection, as required by the Paperwork Reduction Act of 1995. This notice invites comment on a proposed information collection project titled Project Firstline Partner Reporting. This project is designed to collect information on the assessment of performance and progress data on a new infection prevention and control program for frontline healthcare personnel.

DATES: CDC must receive written comments on or before June 7, 2022.

ADDRESSES: You may submit comments, identified by Docket No. CDC-2022-0042, by either of the following methods:

• Federal eRulemaking Portal: https://www.regulations.gov. Follow the instructions for submitting comments.

• Mail: Jeffrey M. Zirger, Information Collection Review Office, Centers for Disease Control and Prevention, 1600 Clifton Road NE, MS H21-8, Atlanta, Georgia 30329.

Instructions: All submissions received must include the agency name and Docket Number. CDC will post, without change, all relevant comments to https://www.regulations.gov.

Please note: Submit all comments through the Federal eRulemaking portal (https://www.regulations.gov) or by U.S. mail to the address listed above.

FOR FURTHER INFORMATION CONTACT: To request more information on the proposed project or to obtain a copy of the information collection plan and instruments, contact Jeffrey M. Zirger, Information Collection Review Office, Centers for Disease Control and Prevention, 1600 Clifton Road NE, MS H21-8, Atlanta, Georgia 30329; Telephone: 404-639-7570; Email: omb@cdc.gov.

SUPPLEMENTARY INFORMATION: Under the Paperwork Reduction Act of 1995 (PRA) (44 U.S.C. 3501-3520), federal agencies must obtain approval from the Office of Management and Budget (OMB) for each collection of information they conduct or sponsor. In addition, the PRA also requires federal agencies to provide a 60-day notice in the Federal Register concerning each proposed collection of information, including each new proposed collection, each proposed extension of existing collection of information, and each reinstatement of previously approved information collection before submitting the collection to the OMB for approval. To comply with this requirement, we are publishing this notice of a proposed data collection as described below.

The OMB is particularly interested in comments that will help:

1. Evaluate whether the proposed collection of information is necessary for the proper performance of the functions of the agency, including whether the information will have practical utility;

2. Evaluate the accuracy of the agency's estimate of the burden of the proposed collection of information, including the validity of the methodology and assumptions used;

3. Enhance the quality, utility, and clarity of the information to be collected;

4. Minimize the burden of the collection of information on those who are to respond, including through the use of appropriate automated, electronic, mechanical, or other technological collection techniques or other forms of information technology, e.g., permitting electronic submissions of responses; and

5. Assess information collection costs.

Proposed Project

Project Firstline Partner Reporting—New—National Center for Emerging and Zoonotic Infectious Diseases (NCEZID), Centers for Disease Control and Prevention (CDC).

Background and Brief Description

The Division of Healthcare Quality Promotion's Project Firstline (PFL) is submitting a new information collection request to cover two partner reporting tools for three years. PFL aims to provide frontline healthcare personnel (HCP) necessary infection prevention and control (IPC) knowledge to prevent the transmission of healthcare acquired infections and COVID-19 in healthcare settings. IPC materials and education will be disseminated by CDC and funded partners via trainings and promotional materials to reach healthcare personnel in a variety of settings.

PFL is a new program, and as such, collection of performance/progress data is critical for successful program implementation and ongoing improvement. Gathering data from PFL partners will provide crucial insights into the diverse needs of HCP, gaps in existing CDC training resources, and will help CDC understand the reach and impact of the PFL initiative. Having this information will allow CDC and partners to monitor progress towards desired outcomes while improving PFL outreach and programming based on lessons learned. The PFL collaborative network, data-driven training and education programs, and targeted messaging through digital platforms will help drive behavior change—enhancing the readiness of the nation's frontlines to respond to the current COVID-19 pandemic and future disease outbreaks.

The PFL collaborative consists of 11 national partners (five of which have subrecipients). National partners and their subrecipients will report on their communications and training efforts conducted with, or tailored to, their respective memberships under the PFL initiative. CDC requests OMB approval for an estimated 1,168 annual burden hours. There is no cost to respondents other than their time to participate.

Estimated Annualized Burden Hours
Type of respondent | Form name | Number of respondents | Number of responses per respondent | Average burden per response (in hours) | Total burden (in hours)
National Partners | Comms Reporting | 11 | 12 | 1.0 | 132
National Partners | Training Reporting | 11 | 12 | 0.2 | 22
Subrecipients & Collaborators | Comms Reporting | 74 | 12 | 1.0 | 888
Subrecipients & Collaborators | Training Reporting | 63 | 12 | 0.2 | 126
Total |  |  |  |  | 1,168

Jeffrey M. Zirger,
Lead, Information Collection Review Office, Office of Scientific Integrity, Office of Science, Centers for Disease Control and Prevention.

[FR Doc. 2022-07520 Filed 4-7-22; 8:45 am]

BILLING CODE 4163-18-P